DEPARTMENT OF JUSTICE

Notice of Lodging of Settlement Agreement Pursuant to The Comprehensive Environmental Response Compensation and Liability Act (CERCLA)

Pursuant to Section 122(d) of CERCLA, 42 U.S.C. 9622(d), and 28 CFR 50.7, notice is hereby given that on September 26, 2005, a proposed Settlement Agreement with Mossberg Industries, Inc. (“Mossberg”) was lodged with the United States Bankruptcy Court for the Northern District of Indiana in Mossberg's bankruptcy case, In re: Mossberg Industries, Inc., No. 03-12993.

Mossberg is a potentially responsible party at the Second Operable Unit at the Peterson/Puritan, Inc. Superfund Site located in Cumberland and Lincoln, Rhode Island (“Peterson/Puritan OU2”), a landfill that operated from the 1950's to the 1980's. The Settlement Agreement provides that the United States will have an allowed general unsecured claim in the amount of $768,000 in connection with Peterson/Puritan OU2. The United States, on behalf of the Environmental Protection Agency, has provided Mossberg with a covenant not to sue, pursuant to Sections 106 and 107 of CERCLA, 42 U.S.C. 9606 and 9607, with respect to Peterson/Puritan OU2.

The Department of Justice will receive, for a period of thirty (30) days from the date of this publication, written comments relating to the proposed Settlement Agreement. Comments should be addressed to the Assistant Attorney General, Environment and Natural Resources Division, Post Office Box 7611, United States Department of Justice, Washington, DC 20044-7611, and should refer to In re Mossberg Industries, Inc., DOJ Ref. # 90-11-3-1233/4. A copy of the comments should be sent to Donald G. Frankel, Trial Attorney, Department of Justice, Suite 616, One Gateway Center, Newton, MA, 02458.

The proposed Settlement Agreement may be examined at the Office of the United States Attorney for the Northern District of Indiana, 5400 Federal Plaza, Suite 1500, Hammond, Indiana 46320 (contact Wayne Ault), and at the United States Environmental Protection Agency, Region 1, 1 Congress Street, Suite 1100, Boston, Massachusetts, 02114-2023 (contact Michelle Lauterback). During the public comment period, the Settlement Agreement may also be examined on the following Department of Justice Web site: http://www.usdoj.gov/enrd/open.html. A copy of the Settlement Agreement may also be obtained by mail from the Consent Decree Library, Post Office Box 7611, Washington, DC 20044-7611, or by faxing or e-mailing a request to Tonia Fleetwood at tonia.fleetwood@usdoj.gov or fax no. (202) 514-0097, phone confirmation number (202) 514-1547. In requesting a copy of the Settlement Agreement from the Consent Decree Library, please enclose a check in the amount of $3.00 (25 cents per page reproduction costs) payable to the United States Treasury.

Ronald G. Gluck,
Assistant Section Chief, Environmental Enforcement Section, Environment and Natural Resources Division, Department of Justice.

[FR Doc. 05-20538 Filed 10-12-05; 8:45 am]

BILLING CODE 4410-15-M